DEPARTMENT OF AGRICULTURE

Natural Resources Conservation Service

Notice of Proposed Changes to Section III of the Field Office Technical Guide (FOTG) of the Natural Resources Conservation Service in Washington State

AGENCY: Natural Resources Conservation Service (NRCS), U.S. Department of Agriculture.

ACTION: Notice of availability of proposed changes in Section III of the FOTG. NRCS is also seeking review and comments to proposed changes.

SUMMARY: It is the intention of NRCS in Washington State to issue new and revised resource management system (RMS) quality criteria. Quality criteria identify the minimum level of treatment necessary to achieve a resource management system. Quality criteria are established that will protect soil, water, air, plant, and animal resources. These quality criteria are applicable to all land uses and to various operating units.

DATES: Comments will be received for a period of 30 days following the publication date of this notice.

FOR FURTHER INFORMATION CONTACT: Raymond L. Hughbanks, State Conservationist, Natural Resources Conservation Service, 316 W. Boone Avenue, Suite 450, Spokane, Washington 99201-2348. Phone: 509-323-2900. Fax: 509-323-2909. Copies of these standards will be made available upon written request. You may submit your electronic requests and comments to: Marty.seamons@wa.usda.gov

Dated: February 14, 2002.
Frank R. Easter,
Acting State Conservationist.

[FR Doc. 02-6605 Filed 3-18-02; 8:45 am]

BILLING CODE 3410-16-P